DEPARTMENT OF LABOR

Employment and Training Administration

[TA-W-74,364]

International Business Machines (IBM), Sales and Distribution Business Unit, Global Sales Solution Department, Off-Site Teleworker in Centerport, New York; Notice of Affirmative Determination Regarding Application for Reconsideration

By application dated November 29, 2011, by a petitioner requested administrative reconsideration of the negative determination regarding workers' eligibility to apply for Trade Adjustment Assistance (TAA) applicable to workers and former workers of International Business Machines (IBM), Sales and Distribution Business Unit, Global Sales Solution Department, off-site teleworker, Centerport, New York (subject firm). The determination was issued on October 29, 2010. The Department's Notice of Determination was published in the Federal Register on November 17, 2010 (75 FR 70296). The workers supply computer software development and maintenance services for the Sales and Distribution Business Unit.

The negative determination was based on the findings that Criterion I has not been met because fewer than three workers were separated and further separations are not threatened.

With respect to Section 222(c) of the Act, the investigation revealed that Criterion (1) has not been met because fewer than three workers were separated and further separations are not threatened. The investigation also revealed that the group eligibility requirements under Section 222(f) of the Act, 19 U.S.C. 2272(f), have not been satisfied because the workers' firm has not been identified in an affirmative finding of injury by the International Trade Commission.

In the request for reconsideration, the petitioner alleged that the subject firm outsourced their job as well as 2,544 other IBM jobs to India.

The Department has carefully reviewed the request for reconsideration and the existing record, and has determined that there may have been a misinterpretation of the worker group. The Department will conduct further investigation to determine if the petitioning workers meet the eligibility requirements of the Trade Act of 1974, as amended.

Conclusion

After careful review of the application, I conclude that the claim is of sufficient weight to justify reconsideration of the U.S. Department of Labor's prior decision. The application is, therefore, granted.

Signed at Washington, DC, on this 6th day of April 2011.
Del Min Amy Chen,
Certifying Officer, Office of Trade Adjustment Assistance.

[FR Doc. 2011-8980 Filed 4-13-11; 8:45 am]

BILLING CODE 4510-FN-P